FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 012472-004.

Agreement Name: Yang Ming/COSCO Shipping Slot Exchange Agreement.

Parties: Yang Ming Marine Transport Corp., Yang Ming (UK) Ltd. and Yang Ming (Singapore) Pte. Ltd. (acting as a single party) and COSCO Shipping Lines Co. Ltd.

Filing Party: Robert Magovern; Cozen O'Connor.

Synopsis: The Amendment adds Yang Ming (Singapore) Pte. Ltd. as a party to the Agreement. Yang Ming (Singapore) Pte. Ltd., a subsidiary of Yang Ming Marine Transport Corp., will be listed as a sub-party along with Yang Ming (UK) Ltd. (all operating as one party).

Proposed Effective Date: 7/29/2022.

Location: https://www2.fmc.gov/FMC.Agreements.Web/Public/AgreementHistory/1969.

Dated: August 5, 2022.
William Cody,
Secretary.

[FR Doc. 2022-17163 Filed 8-9-22; 8:45 am]

BILLING CODE 6730-02-P